FEDERAL COMMUNICATIONS COMMISSION

47 CFR Part 15

[ET Docket No. 13-49; Report No. 3045]

Petitions for Reconsideration of Action in Rulemaking Proceeding

AGENCY: Federal Communications Commission.

ACTION: Petitions for reconsideration.

SUMMARY: Petitions for Reconsideration (Petitions) have been filed in the Commission's Rulemaking proceeding by James Arden Barnett, Jr., Esq., on behalf of Global Automakers, Inc., Ari Q. Fitzgerald, on behalf of Alliance of Automobile Manufacturers, and Stephen E. Coran, on behalf of The Wireless Internet Service Providers Association.

DATES: Oppositions to the Petitions must be filed on or before June 23, 2016. Replies to an opposition must be filed on or before July 5, 2016.

ADDRESSES: Federal Communications Commission, 445 12th Street SW., Washington, DC 20554.

FOR FURTHER INFORMATION CONTACT: Aole Wilkins, Policy and Rules Division, Office of Engineering and Technology, (202) 418-2406, email: Aole.Wilkins@fcc.gov.

SUPPLEMENTARY INFORMATION: This is a summary of Commission's document, Report No. 3045, released May 20, 2016. The full text of the Petitions is available for viewing and copying at the FCC Reference Information Center, 445 12th Street SW., Room CY-A257, Washington, DC 20554 or may be accessed online via the Commission's Electronic Comment Filing System at http://apps.fcc.gov/ecfs/. The Commission will not send a copy of this Notice pursuant to the Congressional Review Act, 5 U.S.C. 801(a)(1)(A), because this Notice does not have an impact on any rules of particular applicability.

Subject: In the Matter of Revision of Part 15 of the Commission's Rules to Permit Unlicensed National Information Infrastructure (U-NII) Devices in the 5 GHz Band, published at 81 FR 19896, April 6, 2016, and FCC 16-24. This Notice is being published pursuant to 47 CFR 1.429(e). See also 47 CFR 1.4(b)(1).

Number of Petitions Filed: 3.

Federal Communications Commission.
Gloria J. Miles,
Federal Register Liaison Officer. Office of the Secretary.

[FR Doc. 2016-13485 Filed 6-7-16; 8:45 am]

BILLING CODE P